DEPARTMENT OF AGRICULTURE

Forest Service

Notice of Change to Title of Position Authorized to Sign Conveyance Documents for the Eastern Region

AGENCY: Forest Service, USDA.

ACTION: Notice.

SUMMARY: The former title of Director of Lands, Watershed, and Minerals Management, Eastern Region, has been changed to Land and Minerals Program Leader, Eastern Region (Region 9). This change conforms the position title with the new organizational structure approved by the Chief of the Forest Service on March 20, 1997. This notice serves to advise the public that under the new title of Land and Minerals Program Leader, the incumbent has authorization to sign legal documents on behalf of the United States. This signing authority applies to all conveyance documents; that is, deeds and other legal instruments as specified in the Forest Service Manual (FSM) 5400.

FOR FURTHER INFORMATION CONTACT: Questions about this notice should be addressed to Carolyn Williams, Regional Realty Specialist, Forest Service, USDA, 310 West Wisconsin Avenue, Milwaukee, WI 53203; phone 414-297-3696.

Dated: February 4, 2000.
Paul M. Stockinger,
Lands and Minerals Program Leader, Eastern Region.

[FR Doc. 00-3944 Filed 2-17-00; 8:45 am]

BILLING CODE 3410-11-M